FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 14, 2006.

A. Federal Reserve Bank of St. Louis (Glenda Wilson, Community Affairs Officer) 411 Locust Street, St. Louis, Missouri 63166-2034:

1. William Harvey Bowen, Little Rock, Arkansas, individually and as part of the Blanchard Family Group to acquire First State Banking Corporation, Russellville, Arkansas. The Blanchard Family Group consists of Charles H. Blanchard and Cynthia B. Blanchard of Russellville, Arkansas, Charles B. Blanchard, Fayetteville, Arkansas, Mary Patricia Blanchard Hardman and William H. Bowen, of Little Rock, Arkansas, and the Blanchard Family Living Trust, Janive S. Blanchard, Trustee, North Little Rock, Arkansas.

Board of Governors of the Federal Reserve System, October 25, 2006.
Robert deV. Frierson,
Deputy Secretary of the Board.

[FR Doc. E6-18154 Filed 10-27-06; 8:45 am]

BILLING CODE 6210-01-S